DEPARTMENT OF COMMERCE

Office of the Under Secretary for Economic Affairs

15 CFR Part 1500

[Docket No. 260224-0056]

RIN 0605-AA86

Streamlining the Regulations Related to Concrete Masonry Research, Education, and Promotion

AGENCY: Office of the Under Secretary for Economic Affairs, U.S. Department of Commerce (Department).

ACTION: Final rule.

SUMMARY: By this rule, the Department clarifies and streamlines the regulations related to concrete masonry research, education, and promotion. Specifically, this rule adds language to clarify the purpose of these regulations, removes all of the sections that merely restate definitions provided in the underlying statute, clarifies the Secretary of Commerce's appointment authority, and streamlines the section governing disqualification and removal with respect to the Concrete Masonry Product Board (Board). This action is necessary and intended to promote clarity, simplicity, efficiency, and statutory conformity.

DATES: The rule is effective February 27, 2026.

FOR FURTHER INFORMATION CONTACT: Daniel Sweeney, Senior Counsel, Office of the General Counsel, at (202) 482-1395.

SUPPLEMENTARY INFORMATION: This action amends the Department's regulations at 15 CFR part 1500, subpart A, which implement the Concrete Masonry Products Research, Education, and Promotion Act of 2018 (15 U.S.C. 8701-8717). Subpart A of part 1500 was added by final rule on September 15, 2021. 86 FR 51456. This rule amends that subpart in the following ways.

First, this rule adds, as a new first section, language clarifying the purpose of these regulations and citing the underlying statute. This language will properly situate and orient the reader, thereby promoting clarity.

Second, this rule removes all of the sections that merely restate definitions set forth in the underlying statute. See 15 U.S.C. 8702 (specifically and sufficiently defining the terms “block machine,” “board,” “cavity,” “concrete masonry products,” “concrete masonry unit,” “conflict of interest,” “Department,” “dry-cast concrete,” “education,” “machine cavities,” “machine cavities in operation,” “manufacturer,” “masonry unit,” “person,” “promotion,” “research,” “Secretary,” and “United States”). Based on that removal, this rule also consolidates the three remaining, meaningfully-supplemental definitions—for “Order,” “Act,” and “Geographic regions”—into a single section. These changes will reduce redundancy and will streamline and simplify part 1500.

Third, this rule removes duplicative language, as well as an unnecessary constraint on the Secretary of Commerce's discretion, related to making appointments to the Concrete Masonry Product Board. As currently written, § 1500.41 applies to the initial Board, but it is meant to apply to the Board in perpetuity. Section 1500.41 also arbitrarily limits to six the Secretary's ability to appoint alternates (nonvoting members), and it contains several repetitive statements. This amendment removes references to the “initial” Board and the number limit regarding alternates, and it tightens the language by removing repetitive statements (and obviates the need for § 1500.43), thus reinforcing the Secretary's authority to make appointments and to appoint alternates as the Secretary deems appropriate.

Fourth, this rule amends and streamlines § 1500.44, which pertains to disqualification and removal of members of the Board. Currently, § 1500.44(a) establishes that any Board member who “ceases to qualify as a manufacturer . . . shall be disqualified from serving on the Board,” either at the Secretary's initiative or upon the Board's recommendation; § 1500.44(b) establishes that the Board may recommend removal of a member if the member “consistently refuses to perform” their duties or engages in “acts of dishonesty or willful misconduct”; and § 1500.44(c) establishes that “[a]ll members serve at the pleasure of the Secretary.” Considering the broad discretion afforded to the Secretary by § 1500.44(c), the Department finds it appropriate to remove the final sentence of § 1500.44(a) and § 1500.44(b) in its entirety, and to add language to § 1500.44(c) generally establishing that the Board may recommend to the Secretary that a member be removed. These changes will reduce redundancy and remove any arbitrary restrictions imposed on the Board's ability to make recommendations to the Secretary, without changing the Secretary's current authority, thereby promoting efficiency.

Regulatory Classifications

A. Administrative Procedure Act

Pursuant to 5 U.S.C. 553(b)(B), the Department finds good cause to waive the prior notice and opportunity for public participation requirements of the Administrative Procedure Act for this final rule. The Department considers this rule to be uncontroversial, and has determined that prior notice and opportunity for public participation is unnecessary, because this rule only adds a section clarifying the purpose of part 1500, removes an arbitrary limit on and clarifies the Secretary's authority to make appointments, removes regulatory language that restates definitions set forth in the underlying statute, and streamlines the language governing disqualification and removal of members of the Concrete Masonry Product Board—all without changing the substantive authority and discretion already afforded to the Secretary of Commerce by statute. All four of these changes are consistent with the Concrete Masonry Products Research, Education, and Promotion Act of 2018 and with the Department's broader regulatory policy; public participation would not justify the continued lack of an introductory purpose section or the continued maintenance of the excessive regulatory language at issue. For the same reason, the Department has determined that delaying the effectiveness of this elimination would be contrary to the public interest. The four changes described above will immediately promote clarity, simplicity, and efficiency—thereby benefiting the public—at little to no cost. The Department therefore finds good cause to waive the public notice and comment period under 553(b)(B) and to waive the 30-day delay in effectiveness under 553(d).

B. Executive Orders 12866, 14192, and 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501, et seq.

List of Subjects for 15 CFR Part 1500

Administrative practice and procedure, Concrete masonry promotion.

Dated: February 25, 2026.
Joyce Meyer,
Under Secretary for Economic Affairs.

Accordingly, for the reasons set forth above and under the authority of 15 U.S.C. 8713, the Department amends part 1500 of title 15 of the Code of Federal Regulations to read as follows:

PART 1500—CONCRETE MASONRY RESEARCH, EDUCATION, AND PROMOTION

1. The authority citation for part 1500 continues to read as follows:

Authority: 15 U.S.C. 8701-8717.

Subpart A—Concrete Masonry Products Research, Education, and Promotion Order

2. Revise the undesignated center heading for §§ 1500.0 through 1500.21 to read as follows:

Purpose and Definitions

3. Revise § 1500.0 to read as follows:

§ 1500.0 Purpose.

The purpose of these regulations is to set out the Department of Commerce's policies and procedures under the Concrete Masonry Products Research, Education, and Promotion Act of 2018.

4. Revise § 1500.1 to read as follows:

§ 1500.1 Definitions.

(a) Order means this subpart A, Concrete Masonry Products Research, Education, and Promotion Order.

(b) Act means the Concrete Masonry Products Research, Education, and Promotion Act of 2018 (15 U.S.C. 8701 et seq.; Pub. L. 115-254, section 1301, 132 Stat. 3469-3485 (2018)), and any amendments thereto.

(c) Geographic regions means the groupings of states as delineated in this Order (at § 1500.40(c)), for the purpose of supporting research, education, and promotion plans and projects.

§§ 1500.2 through 1500.15 [Removed and Reserved]

5. Remove and reserve §§ 1500.2 through 1500.15.

§§ 1500.17 through 1500.21 [Removed and Reserved]

6. Remove and reserve §§ 1500.17 through 1500.21.

7. Revise § 1500.41 to read as follows:

§ 1500.41 Nominations and Appointments.

(a) The Secretary shall appoint not fewer than 15 and not more than 25 members to the Board, and alternate members as deemed appropriate. Alternate members participate in meetings but do not vote as members of the Board. The Secretary shall consider nominations submitted from the Board as well as other manufacturers as the Secretary deems appropriate.

(b) In the event a voting member vacates their appointment, the Secretary will appoint an alternate member to fill the unexpired term. If the Board fails to submit nominations for any open position, the Secretary shall appoint a member qualifying for the position under criteria set forth in 1500.40.

A maximum of two individuals from any single company or its affiliates may serve on the Board at any one time, and current members will not necessarily be replaced with another representative of the same company.

§§ 1500.43 [Removed and Reserved]

8. Remove and reserve § 1500.43.

9. Revise § 1500.44 to read as follows:

§ 1500.44 Disqualification and Removal.

(a) In the event that any Board member or alternate Board member who was appointed as a manufacturer ceases to qualify as a manufacturer, such Board member or alternate Board member shall be disqualified from serving on the Board.

(b) [Reserved]

(c) All members serve at the pleasure of the Secretary. The Board may recommend to the Secretary that a member be removed from office.

[FR Doc. 2026-04005 Filed 2-26-26; 8:45 am]

BILLING CODE 3150-20-P